DEPARTMENT OF ENERGY

Federal Energy Regulatory Commission

[Project No. 13878-000]

Kahawai Power 1, LLC; Notice of Preliminary Permit Application Accepted for Filing and Soliciting Comments, Motions To Intervene, and Competing Applications

December 3, 2010.

On November 12, 2010, Kahawai Power 1, LLC filed an application for a preliminary permit, pursuant to section 4(f) of the Federal Power Act (FPA), proposing to study the feasibility of the Hanalei River Hydroelectric Project (Hanalei River) to be located on the Hanalei River, Pekoa Stream, Kaapahu Stream, and Kaiwa Stream in the vicinity of Hanalei, Hawaii. The sole purpose of a preliminary permit, if issued, is to grant the permit holder priority to file a license application during the permit term. A preliminary permit does not authorize the permit holder to perform any land-disturbing activities or otherwise enter upon lands or waters owned by others without the owners' express permission.

The proposed project will consist of the following: (1) A 80-foot-long, 15-foot-high concrete diversion weir and intake structure on the Hanalei River creating a reservoir with a storage capacity of 7.7-acre-feet; (2) a 23,500-foot-long, 3.5-foot-diameter main steel penstock running from the Hanalei diversion weir to the powerhouse; (3) a 35-foot-long, 5-foot-high concrete diversion weir with intake structure located on the Kaiwa Stream creating a reservoir with a storage capacity of less than 0.25 acre-feet; (4) a 1,100-foot-long, 2-foot-diameter steel feeder penstock from the Kaiwa intake structure to the main penstock; (5) a 35-foot-long, 5-foot-high concrete diversion weir with intake structure located on the Kaapahu Stream creating a reservoir with a storage capacity of less than 0.25 acre-feet; (6) a 2,800-foot-long, 2-foot-diameter steel feeder penstock from the Kaapahu intake to the main penstock; (7) a 35-foot-long, 5-foot-high concrete diversion weir with intake structure located on the Pekoa Stream creating a reservoir with a storage capacity of less than 0.25 acre-feet; (8) a 1,700-foot-long, 2-foot-diameter steel feeder penstock from the Pekoa intake to the main penstock; (9) a 60-foot-long, 40-foot-wide reinforced concrete powerhouse containing one 3.5-megawatt two-jet turgo turbine; (10) a substation with a 4.16/25-kilovolt (kV) three phase step-up transformer; (11) a one-mile-long, 25kV transmission line; and (12) appurtenant facilities. The estimated annual generation of the Hanalei River project would be 12.25 gigawatt-hours.

Applicant Contact: Ramya Swaminathan, Kahawai Power 1, LLC, 33 Commercial Street, Gloucester, MA 01930; phone: (978) 283-2822.

FERC Contact: Kelly Wolcott (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13878-000) in the docket number field to access the document. For assistance, contact FERC Online Support.

Kimberly D. Bose,
Secretary.

[FR Doc. 2010-31019 Filed 12-9-10; 8:45 am]

BILLING CODE 6717-01-P